DEPARTMENT OF JUSTICE

Notice of Lodging of Consent Decree Under the Clean Water Act and Clean Air Act

Under 28 CFR 50.7, notice is hereby given that on Sept4ember 20, 2005, a proposed Consent Decree in two consolidated cases—United States v. Motiva Enterprises LLC, Civil action No. 02-1292-SLR, and The Department of Natural Resources and Environmental Control, an agency of the State of Delaware v. Motiva Enterprises LLC, Civil Action No. 02-1293-SLR—was lodged with the United States District Court for the District of Delaware.

The United States' and the Department of Natural Resources and Environmental Control's (“DNREC's”) actions sought injunctive relief and civil penalties to address violations of the Clean Water Act, the Clean Air Act, and several state statutes that occurred in connection with a July 17, 2001 explosion at the Delaware City Refinery, then owned and operated by Motiva Enterprises LLC (“Motiva”). Under the Consent Decree, Motiva will pay a $12 million civil penalty: $6.25 million will be paid to the U.S. and $5.75 million to DNREC.

Motiva will also carry out six environmental projects at a cost of approximately $3.96 million. First Motiva will spend approximately $2.0 million to purchase three hybrid diesel-electric buses for the Delaware Transit Corporation and provide maintenance funds for the buses. Second, the Company that purchased the refinery from Motiva in 2004, The Premcor Refining Group Inc. (“Premcor”), will grant a conservation easement over 285 acres of refinery land that will protect the area in perpetuity. Motiva will then spend at least $447,500 planting trees and controlling invasive species and taking other steps to return the area to its natural state. Third, Motiva will spend approximately $550,000 to reintroduce native species of shellfish into parts of the Delaware River they formerly inhabited. Fourth, Motiva will purchase $165,000-worth of emergency equipment for the local fire department. Fifth, Motiva will pay approximately $550,000 to construct a weather-monitoring station near the refinery for DNREC and pay a portion of the station's operating coasts. Sixth and finally, Motiva will spend $250,000 to install and operate for approximately five years a river-monitoring station near Pea Patch Island.

In addition. Premcor, now a subsidiary of Valero Energy Corporation, will implement a number of accident-prevention measures. For example, at the refinery's alkylation unit, Premcor will take steps to ensure that equipment that reduces the quantity of explosive hydrocarbons in spent sulfuric acid is operating whenever the alkylation unit is operating. Procedures for issuing hot work permits and for responding to holes and leaks in tanks will be tightened. The refinery will manage spent sulfuric acid as if spent sulfuric acid were a regulated substance under EPA's accident prevention regulations, 40 CFR part 68.

The United Stated Department of Justice will receive for a period of thirty (30) days from the date of this publication comments relating to the Consent Decree. Comments should be addressed to the Assistant Attorney General, Environment and Natural Resources Division, PO Box 7611, U.S. Department of Justice, Washington, DC 20044-7611, and should refer to United States v. Motiva Enterprises LLC, D.J. Ref. No. 90-5-1-1-07551.

The Consent Decree may be examined during the public comment period on the following Department of Justice Web site: http://www.usdoj.gov/enrd/open.html. A copy of the Consent Decree may also be obtained by mail from the Consent Decree Library, PO box 7611, U.S. Department of Justice, Washington, DC 20044-7611 or by faxing or e-mailing a request to Tonio Fleetwood (tonia.fleetwood@usdoj.gov), fax number (202) 514-0097, phone confirmation number (202) 514-1547. If requesting from the Consent Decree Library a full copy of the Consent Decree including its attachments, please enclose a check in the amount of $37.50 (25 cents per page reproduction cost) payable to the U.S. Treasury. If requesting a copy of the Consent Decree without its attachments, please enclose a check in the amount of $18.75 payable to the U.S. Treasury.

Bob Brook,
Assistant Section Chief, Environmental Enforcement Section, Environment and Natural Resources Division.

[FR Doc. 05-19088 Filed 9-23-05; 8:45am]

BILLING CODE 4410-15-M